DEPARTMENT OF DEFENSE

Department of the Army

Final Environmental Impact Statement (FEIS) for Stationing and Training of Increased Aviation Assets Within U.S. Army Alaska

AGENCY: Department of the Army, DoD.

ACTION: Notice of Availability (NOA).

SUMMARY: The Department of the Army announces the availability of an FEIS for the implementation of the decision to increase numbers and types of aviation assets and training at Fort Wainwright, Fort Richardson, or other military installations in Alaska. The proposed aviation unit, an Aviation Task Force or Combat Aviation Brigade, would potentially consist of up to 62 medium and heavy lift helicopters, 30 combat scout helicopters, 24 attack helicopters, and between 1,200 to 2,850 Soldiers.

DATES: The waiting period for the FEIS will end 30 days after the publication of an NOA in the Federal Register by the U.S. Environmental Protection Agency.

ADDRESSES: Written comments should be forwarded to Ms. Carrie McEnteer, Directorate of Public Works, Attention: IMPA-FWA-PWE, 1060 Gaffney Road #4500, Fort Wainwright, AK 99703-4500, by fax at (907) 361-9867, or by e-mail at carrie.mcenteer@us.army.mil.

FOR FURTHER INFORMATION CONTACT: Ms. Linda L. Douglass, Public Affairs Office, 1060 Gaffney Road #5900, Fort Wainwright, AK 99703-5900; telephone: (907) 353-6701, e-mail: linda.douglass@us.army.mil.

SUPPLEMENTARY INFORMATION: The Proposed Action and analysis in the FElS includes the reorganization of existing aviation assets (approximately 490 Soldiers and 32 medium and heavy lift helicopters) in U.S. Army Alaska (USARAK) to become a frontline aviation unit with an increased capacity that could range in size from an Aviation Task Force (approximately 1,200 Soldiers, 42 medium and heavy lift helicopters and 30 combat scout helicopters) to a Combat Aviation Brigade (approximately 2,850 Soldiers, 62 medium and heavy lift helicopters, 30 combat scout helicopters, and 24 attack aviation helicopters).

While USARAK has historically supported unit training activities within Alaska with rotary-winged aircraft (helicopters), the types and numbers of current assets are not sufficient to provide the full range of integrated tactical training required by the modern Brigade Combat Team. The proposed increase and reorganization of USARAK's aviation assets would resolve this shortcoming. The new aviation unit would provide key aviation assets for operational deployment abroad and would serve to enhance the training capability of USARAK's two Brigade Combat Teams by providing a local opportunity to conduct integrated training with multiple types of Army aviation assets.

In addition to consideration of a No Action Alternative (use of existing aviation assets and infrastructure to support USARAK Brigade Combat Team training with no increase to current integrated land-air training capability), two additional alternatives are proposed as possible scenarios for the reorganization of existing USARAK aviation assets. The alternatives vary by aviation unit size, aviation asset composition, and stationing location. Alternatives include: (1) Expansion of Existing Aviation Units into an Aviation Task Force—convert existing USARAK aviation assets into an Aviation Task Force (station 710 additional Soldiers and 40 additional helicopters, build sufficient new infrastructure to support the new aviation inventory at Fort Wainwright, and conduct increased aviation training on existing Alaska military training lands and ranges); and (2) Expansion of Existing Aviation Assets into a Combat Aviation Brigade with stationing of Soldiers and helicopters at Fort Wainwright, Fort Richardson, and Eielson Air Force Base—convert existing USARAK aviation assets into a Combat Aviation Brigade (station 2,360 additional Soldiers and an additional 84 helicopters (30 medium and heavy lift type, 30 combat scout type, and 24 attack type) at the three military installations, build sufficient new infrastructure only at Fort Wainwright to support the new aviation inventory, and conduct increased aviation training on existing Alaska military training lands and ranges). After reviewing the alternatives presented in the FEIS, the Army has selected the Aviation Task Force alternative as its preferred alternative.

Implementation of this proposed action is expected to result in direct, indirect and cumulative impacts as a result of troop stationing, facilities construction and helicopter training exercises at USARAK. The principal environmental impacts discussed in the EIS are airspace management, cultural and visual resources, noise, hazardous materials and hazardous waste, and wildlife. Although additional helicopters would be stationed in Alaska, existing airspace aviation travel routes would be utilized resulting in minor increases in air traffic. Significant adverse impacts would occur to the Ladd Field National Historic Landmark as a result of facility construction at Fort Wainwright. Adverse impacts would be the result of the new construction being out of scale with historic buildings, historical view-shed obstruction and change in use of two historic buildings. Temporary minor noise impacts would occur due to facility construction. Noise associated with helicopter training would increase but not to a level that would significantly increase annoyance levels at Fort Wainwright or surrounding lands. Hazardous materials and waste, both existing sources and those created by the stationing and operation of an aviation unit, will be managed under existing programs and agreements. Facility construction is proposed within known areas of contamination. USARAK will continue to consult with the appropriate State and Federal agencies as outlined in existing agreements in order to protect human health and the environment. Various wildlife species would be affected by increased military training (specifically moose, bison, caribou, trumpeter swan and bear); however, population level impacts would not occur. In addition, increased hunting pressure on game mammals could result from increased stationing of Soldiers.

Copies of the FEIS are available for public review at local libraries and at the following Web site: http://www.usarak.army.mil/conservation/NEPA_home.html. Comments from the public will be considered before any final decision is made.

Dated: September 2, 2009.
Addison D. Davis, IV,
Deputy Assistant Secretary of the Army (Environment, Safety and Occupational Health).

[FR Doc. E9-21933 Filed 9-11-09; 8:45 am]

BILLING CODE 3710-08-M